DEPARTMENT OF HOMELAND SECURITY

Federal Emergency Management Agency

[Docket ID: FEMA-2008-0008]

National Incident Management System—FEMA 501

AGENCY: Federal Emergency Management Agency, DHS.

ACTION: Notice of availability; request for comments.

SUMMARY: The Federal Emergency Management Agency (FEMA) is accepting comments on the draft National Incident Management System (NIMS) document. NIMS provides a consistent nationwide template to enable Federal, State, tribal, and local governments, the private sector, and nongovernmental organizations to work together to prevent, protect against, respond to, recover from, and mitigate the effects of incidents, regardless of cause, size, location, or complexity.

DATES: Comments must be received by June 2, 2008.

ADDRESSES: The draft NIMS document is available online at www.regulations.gov, in Docket ID FEMA-2008-0008. You may also view hard copies at the Office of Chief Counsel, Federal Emergency Management Agency, Room 835, 500 C Street, SW., Washington, DC 20472. You may submit comments on the draft NIMS document, identified by Docket ID FEMA-2008-0008, by one of the following methods:

Federal eRulemaking Portal: http://www.regulations.gov. Follow the instructions for submitting comments.

E-mail: FEMA-POLICY@dhs.gov. Include Docket ID FEMA-2008-0008 in the subject line of the message.

Fax: 866-466-5370.

Mail/Hand Delivery/Courier: Regulation & Policy Team, Office of Chief Counsel, Federal Emergency Management Agency, Room 835, 500 C Street, SW., Washington, DC 20472.

Instructions: All Submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FEMA has also provided a form, available in the docket at www.regulations.gov. Due to the large number of comments that are expected, FEMA asks that comments be submitted using this form.

Docket: For access to the docket to read background documents or comments received, go to the Federal eRulemaking Portal at http://www.regulations.gov and search for Docket ID FEMA-2008-0008. Submitted comments may also be inspected at FEMA, Office of Chief Counsel, Room 835, 500 C Street, SW., Washington, DC 20472.

FOR FURTHER INFORMATION CONTACT: Sean Murphy, Policy Advisor to the Deputy Administrator, Federal Emergency Management Agency, 500 C Street, NW., Washington, DC 20472, 202-646-3100.

SUPPLEMENTARY INFORMATION: On February 28, 2003, the President issued Homeland Security Presidential Directive-5 (HSPD-5), Management of Domestic Incidents, which directed the Secretary of Homeland Security to develop and administer a National Incident Management System (NIMS). This system provides a consistent nationwide template to enable Federal, State, tribal, and local governments, the private sector, and nongovernmental organizations to work together to prevent, protect against, respond to, recover from, and mitigate the effects of incidents, regardless of cause, size, location, or complexity in order to reduce the loss of life and property, and the harm to the environment. This consistency provides the foundation for utilization of NIMS for all incidents, ranging from daily occurrences to incidents requiring a coordinated Federal response. NIMS represents a core set of doctrines, concepts, principles, terminology, and organizational processes that enables effective, efficient, and collaborative incident management.

Building on the foundation provided by existing emergency management and incident response systems used by jurisdictions, organizations, and functional disciplines at all levels, the NIMS document integrates best practices into a comprehensive framework for use by emergency management/response personnel in an all-hazards context nationwide. These best practices lay the groundwork for the components of NIMS and provide the mechanisms for the further development and refinement of supporting national standards, guidelines, protocols, systems, and technologies. NIMS fosters the development of specialized technologies that facilitate emergency management and incident response activities and allows for the adoption of new approaches that will enable continuous refinement of NIMS over time.

The changes reflected in the revised document are not substantively dramatic, and do not alter the basic NIMS doctrine published in the 2004 version. The Department is providing the current draft of the NIMS for public comment; this draft document does not necessarily reflect the final policy of the Administration.

Authority: Homeland Security Act of 2002, as amended, 6 U.S.C. 101 et seq., Homeland Security Presidential Directive-5, Management of Domestic Incidents.

Dated: May 5, 2008.
R. David Paulison,
Administrator, Federal Emergency Management Agency.

[FR Doc. E8-10449 Filed 5-8-08; 8:45 am]

BILLING CODE 9110-21-P